DEPARTMENT OF HEALTH AND HUMAN SERVICES

Centers for Medicare & Medicaid Services

[Document Identifiers: CMS-906 and CMS-855B]

Agency Information Collection Activities: Submission for OMB Review; Comment Request

AGENCY: Centers for Medicare & Medicaid Services, HHS.

In compliance with the requirement of section 3506(c)(2)(A) of the Paperwork Reduction Act of 1995, the Centers for Medicare & Medicaid Services (CMS), Department of Health and Human Services, is publishing the following summary of proposed collections for public comment. Interested persons are invited to send comments regarding this burden estimate or any other aspect of this collection of information, including any of the following subjects: (1) The necessity and utility of the proposed information collection for the proper performance of the Agency's function; (2) the accuracy of the estimated burden; (3) ways to enhance the quality, utility, and clarity of the information to be collected; and (4) the use of automated collection techniques or other forms of information technology to minimize the information collection burden.

1. Type of Information Collection Request: Revision of a currently approved collection; Title of Information Collection: The Fiscal Soundness Reporting Requirements; Use: The Centers for Medicare and Medicaid Services (CMS) is assigned responsibility for overseeing the on-going financial performance for all Medicare Advantage Organizations (MAO), Prescription Drug Plan (PDP) sponsors and Program of All-Inclusive Care for the Elderly (PACE) organizations. Specifically, CMS needs the requested collection of information to establish that contracting entities within those programs maintain fiscally sound organizations. The revised fiscal soundness reporting form combines MAO, PDP, 1876 Cost Plans, Demonstration Plans and PACE organizations. Entities contracting in these programs currently submit all documentation being requested. Specifically, all contracting organizations must submit annual independently audited financial statements one time per year. The MAOs with a net loss, a negative net worth or both must file three quarterly statements. Currently there are approximately 44 MAOs filing quarterly financial statements. The PDPs must also file three unaudited quarterly financial statements. The PACE organizations are required to file 3 quarterly financial statements for the first three years in the program. Additionally, PACE organizations with a net loss, a negative net worth or both must file statements as well.

The information collection request is being revised to include one additional data element for PACE organizations only, Total Subordinated Liabilities. The addition of the new data element will actually reduce the time to analyze the financial standing of PACE organizations because we will no longer have to contact the PACE organizations to establish whether or not the organization's total liabilities calculation includes subordinated debt. Form Number: CMS-906 (OCN: 0938-0469); Frequency: Annually, Quarterly; Affected Public: Private Sector: Business or other for-profits and Not-for-profit institutions; Number of Respondents: 648; Total Annual Responses: 1,281; Total Annual Hours: 428. (For policy questions regarding this collection contact Joe Esposito at 410-786-1129. For all other issues call 410-786-1326.)

2. Type of Information Collection Request: New collection; Title of Information Collection: Medicare Enrollment Application for Clinics/Group Practice and Certain Other Suppliers; Use: The primary function of the CMS-855B enrollment application for Clinics, Group Practices and Certain Other Suppliers is to gather information from the organization that tells us what it is, whether it meets certain qualifications to be a health care supplier, where it renders services and information necessary to establish the correct claims payment. The goal of evaluating and revising the CMS-855B enrollment application is to simplify and clarify the information collection without jeopardizing our need to collect specific information. The majority of the revisions are very minor in nature such as spelling and formatting corrections, removal of duplicate fields and instruction clarification for the organization/group. The Sections and Sub-Sections within the form are also being re-numbered and re-sequenced to create a more logical flow of the data collection. In addition, CMS is adding a data collection for an address to mail the periodic request for the revalidation of enrollment information (only if it differs from other addresses currently collected). Other than the revalidation mailing address described above, new data being collected in this revision package is a checkbox indicating whether or not an organization is wholly owned or operated by a hospital, the inclusion of a new supplier type (Centralized Flu Biller) and information on, if applicable, where the supplier stores its patient records electronically. While the CMS-855B is not a new form, this is considered a new information collection request because we are submitting it to OMB for approval under its own OMB control number. Form Number: CMS-855B (OCN: 0938-New); Frequency: Yearly; Affected Public: Individuals and households; Number of Respondents: 31,000; Total Annual Responses: 31,000; Total Annual Hours: 103,000 (For policy questions regarding this collection contact Kim McPhillips at 410-786-5374. For all other issues call 410-786-1326.)

To obtain copies of the supporting statement and any related forms for the proposed paperwork collections referenced above, access CMS Web site address at http://www.cms.hhs.gov/PaperworkReductionActof1995, or Email your request, including your address, phone number, OMB number, and CMS document identifier, to Paperwork@cms.hhs.gov, or call the Reports Clearance Office on (410) 786-1326.

To be assured consideration, comments and recommendations for the proposed information collections must be received by the OMB desk officer at the address below, no later than 5 p.m. on January 22, 2013.

OMB, Office of Information and Regulatory Affairs, Attention: CMS Desk Officer, Fax Number: (202) 395-6974, Email: OIRA_submission@omb.eop.gov.

Dated: December 17, 2012.
Martique Jones,
Deputy Director, Regulations Development Group, Office of Strategic Operations and Regulatory Affairs.

[FR Doc. 2012-30749 Filed 12-20-12; 8:45 am]

BILLING CODE 4120-01-P